ENVIRONMENTAL PROTECTION AGENCY

[EPA-HQ-OPP-2019-0008; FRL-9991-15]

Pesticide Product Registration; Receipt of Applications for New Uses

AGENCY: Environmental Protection Agency (EPA).

ACTION: Notice.

SUMMARY: EPA has received applications to register new uses for pesticide products containing currently registered active ingredients. Pursuant to the Federal Insecticide, Fungicide, and Rodenticide Act (FIFRA), EPA is hereby providing notice of receipt and opportunity to comment on these applications.

DATES: Comments must be received on or before June 10, 2019.

ADDRESSES: Submit your comments, identified by the Docket Identification (ID) Number, and the File Symbol or EPA Registration Number of interest as shown in the body of this document, by one of the following methods:

• Federal eRulemaking Portal: http://www.regulations.gov. Follow the online instructions for submitting comments. Do not submit electronically any information you consider to be Confidential Business Information (CBI) or other information whose disclosure is restricted by statute.

• Mail: OPP Docket, Environmental Protection Agency Docket Center (EPA/DC), (28221T), 1200 Pennsylvania Ave. NW, Washington, DC 20460-0001.

• Hand Delivery: To make special arrangements for hand delivery or delivery of boxed information, please follow the instructions at http://www.epa.gov/dockets/contacts.html. Additional instructions on commenting or visiting the docket, along with more information about dockets generally, is available at http://www.epa.gov/dockets.

FOR FURTHER INFORMATION CONTACT: Michael Goodis, Registration Division (7505P), main telephone number: (703) 305-7090, email address: RDFRNotices@epa.gov. The mailing address for each contact person is: Office of Pesticide Programs, Environmental Protection Agency, 1200 Pennsylvania Ave. NW, Washington, DC 20460-0001. As part of the mailing address, include the contact person's name, division, and mail code. The division to contact is listed at the end of each application summary.

SUPPLEMENTARY INFORMATION:

I. General Information

A. Does this action apply to me?

You may be potentially affected by this action if you are an agricultural producer, food manufacturer, or pesticide manufacturer. The following list of North American Industrial Classification System (NAICS) codes is not intended to be exhaustive, but rather provides a guide to help readers determine whether this document applies to them. Potentially affected entities may include:

• Crop production (NAICS code 111).

• Animal production (NAICS code 112).

• Food manufacturing (NAICS code 311).

• Pesticide manufacturing (NAICS code 32532).

B. What should I consider as I prepare my comments for EPA?

1. Submitting CBI. Do not submit this information to EPA through regulations.gov or email. Clearly mark the part or all of the information that you claim to be CBI. For CBI information in a disk or CD-ROM that you mail to EPA, mark the outside of the disk or CD-ROM as CBI and then identify electronically within the disk or CD-ROM the specific information that is claimed as CBI. In addition to one complete version of the comment that includes information claimed as CBI, a copy of the comment that does not contain the information claimed as CBI must be submitted for inclusion in the public docket. Information so marked will not be disclosed except in accordance with procedures set forth in 40 CFR part 2.

2. Tips for preparing your comments. When preparing and submitting your comments, see the commenting tips at http://www.epa.gov/dockets/comments.html.

II. Registration Applications

EPA has received applications to register new uses for pesticide products containing currently registered active ingredients. Pursuant to the provisions of FIFRA section 3(c)(4) (7 U.S.C. 136a(c)(4)), EPA is hereby providing notice of receipt and opportunity to comment on these applications. Notice of receipt of these applications does not imply a decision by the Agency on these applications.

III. New Uses

1. EPA registration number(s): 100-1609, 100-1601, 100-1602, 100-1603, 100-1605, and new seed treatment product 100-RAUI. Docket ID number: EPA-HQ-OPP-2018-0688. Applicant: Syngenta Crop Protection, LLC, P.O. Box 18300, Greensboro, NC 27419. Active ingredient: Pydiflumetofen. Product type: Fungicide. Proposed use(s): Foliar use proposed on Berries, Low Growing Crop Subgroup 13-07G (except cranberry and blueberry); Brassica Head and Stem Crop Group 5-16; Brassica Leafy Greens Subgroup 4-16B; Bulb Vegetable Crop Group 3-07A; Bulb Vegetable Crop Group 3-07B; Bushberry Crop Subgroup 13-07B; Citrus Crop Subgroup 10-10; Cottonseed Subgroup 20C; Edible-podded Legume Vegetables Subgroup 6A; Leaves of Root and Tuber Vegetables, Crop Group 2; Succulent Shelled Pea and Bean Subgroup 6B; Pome Fruit Crop Group 11-10; Root Vegetable Crop Group 1A; Sorghum; Stone Fruit Crop Group 12-12 (Subgroups 12A, 12B and 12C); Sunflower, Oilseed Subgroup 20B; and Tree Nuts Crop Group 14-12. Seed treatment proposed for use on Rapeseed Subgroup 20A and soybean. Contact: RD.

2. EPA registration number: 7969-262. Docket ID number: EPA-HQ-OPP-2019-0060. Applicant: BASF Corporation, 26 Davis Drive, Research Triangle Park, NC 27709. Active ingredient: Topramezone. Product type: Herbicide. Proposed use: African Marigold. Contact: RD.

3. EPA registration number: 10163-357. Docket ID number: EPA-HQ-OPP-2017-0565. Applicant: Gowan Company LLC, P.O. Box 5569, Yuma, AZ 85366-5569. Active ingredient: Extract of Swinglea glutinosa. Product type: Biochemical fungicide. Proposed use: Addition of aerial and chemigation applications and residential uses. Contact: BPPD.

4. EPA registration numbers: 67690-6 and 67690-78. Docket ID number: EPA-HQ-OPP-2019-0074. Applicant: SePRO Corporation, 11550 North Meridian Street, Suite 600, Carmel, IN 46032. Active ingredient: Fluridone. Product type: Herbicide. Proposed uses: Avocado, mandarin, pistachio, pomegranate, and stone fruit crop group 12-12. Contact: RD.

5. EPA registration number(s): 71512-2 and 71512-3. Docket ID number: EPA-HQ-OPP-2018-0832. Applicant: ISK Biosciences Corporation, 7470 Auburn Road, Suite A, Concord, OH 44077. Active ingredient: Cyazofamid. Product type: Fungicide. Proposed use(s): New use on ginseng and greenhouse cucumber; conversion from Brassica, leafy greens, subgroup 5B to Brassica, leafy greens, subgroup 4-16B; conversion from leafy greens subgroup 4A to Leafy greens subgroup 4-16A; conversion from Brassica, head and stem, subgroup 5A to Vegetable, Brassica, head and stem group 5-16 and kohlrabi. Contact: RD

Authority: 7 U.S.C. 136 et seq.

Dated: May 1, 2019.
Delores Barber,
Director, Information Technology and Resources Management Division, Office of Pesticide Programs.

[FR Doc. 2019-09490 Filed 5-8-19; 8:45 am]

BILLING CODE 6560-50-P